DEPARTMENT OF ENERGY

Federal Energy Regulatory Commission

[Docket No. CP11-10-000]

Liberty Natural Gas, LLC; Notice of Application

October 26, 2010.

On October 14, 2010, Liberty Natural Gas, LLC (Liberty) filed with the Federal Energy Regulatory Commission (Commission) an application under section 7 of the Natural Gas Act and section 157 of the Commission's Regulations requesting: (1) A certificate of public convenience and necessity to construct and operate a 9.2-mile natural gas pipeline and ancillary facilities (Onshore Pipeline); (2) a blanket certificate to perform routine activities and operations; (3) authorization to operate on a sole-use, proprietary basis; and, (4) a waiver of certain Commission Regulations, all as more fully detailed in the application which is on file with the Commission and open to public inspection.

The Onshore Pipeline will extend from the high water mark on the shoreline in Amboy, Middlesex County, New Jersey to Linden, in Union County, New Jersey, interconnections with the interstate pipeline systems of Texas Eastern Transmission, L.P. and Transcontinental Gas Pipeline Company. It is designed to transport up to 2.4 billion cubic feet per day of natural gas to serve markets in New Jersey, New York, and surrounding areas.

The Onshore Pipeline is a part of the Liberty Natural Gas Project, which will include a deepwater port (Port), located approximately 16.2 miles offshore along the New Jersey coastline. The Port, which will remain fully submerged when not in use, will be served by LNG Regasification Vessels that will transport natural gas from sources around the world in a liquid state (LNG) and will regasify the LNG onboard when they reach the Port. The regasified natural gas will then be transported through the proposed Port and a submerged pipeline to the Onshore Pipeline. In conjunction with this Application, Liberty is also filing an application for a license to own, construct, and operate its Port and submerged pipeline with the Maritime Administration and the United States Coast Guard pursuant to the Deepwater Port Act of 1974, 33 U.S.C. 1501, et seq., as amended.

Questions concerning this application may be directed to Jason Goldstein, Liberty Natural Gas, LLC, 15 Exchange Street, Suite 1120, Jersey City, NJ 07302, by calling 201-985-8600, by faxing 201-985-8604, or by e-mailing jgoldstein@libertynaturalgas.com or to Beth L. Webb, Dickstein Shapiro LLP, 1825 Eye Street, NW., Washington, DC 20006, by calling 202-420-2200, by faxing 202-379-9389, or by e-mailing webbb@dicksteinshapiro.com.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify Federal and State agencies of the timing for the completion of all necessary reviews, and the subsequent need to complete all Federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission encourages electronic submission of protests and interventions in lieu of paper using the “eFiling” link at http://www.fere.gov. Persons unable to file electronically should submit an original and seven copies of the protest or intervention to the Federal Energy Regulatory Commission, 888 First Street, NE., Washington, DC 20426. This filing is accessible on-line at http://www.ferc.gov. using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 16, 2010.

Kimberly D. Bose,
Secretary.

[FR Doc. 2010-27558 Filed 11-1-10; 8:45 am]

BILLING CODE 6717-01-P